DEPARTMENT OF COMMERCE

National Oceanic and Atmospheric Administration

50 CFR Part 679

[Docket No. 250312-0037; RTID 0648-XF239]

Fisheries of the Exclusive Economic Zone Off Alaska; Pacific Ocean Perch in the Western Regulatory Area of the Gulf of Alaska

AGENCY: National Marine Fisheries Service (NMFS), National Oceanic and Atmospheric Administration (NOAA), Commerce.

ACTION: Temporary rule; closure.

SUMMARY: NMFS is prohibiting retention of Pacific Ocean perch in the Western Regulatory Area of the Gulf of Alaska (GOA). This action is necessary because the 2025 total allowable catch of Pacific Ocean perch in the Western Regulatory Area of the GOA has been or will be reached.

DATES: Effective 1200 hours, Alaska local time (A.l.t.), September 26, 2025, through 2400 hours, A.l.t., December 31, 2025.

FOR FURTHER INFORMATION CONTACT: Adam Zaleski, 907-206-5802.

SUPPLEMENTARY INFORMATION: NMFS manages the groundfish fishery in the GOA exclusive economic zone according to the Fishery Management Plan for Groundfish of the GOA (FMP) prepared and recommended by the North Pacific Fishery Management Council under authority of the Magnuson-Stevens Fishery Conservation and Management Act (Magnuson-Stevens Act). Regulations governing fishing by U.S. vessels in accordance with the FMP appear at subpart H of 50 CFR part 600 and 50 CFR part 679.

The 2025 total allowable catch (TAC) of Pacific Ocean perch in the Western Regulatory Area of the GOA is 1,753 metric tons as established by the final 2025 and 2026 harvest specifications for groundfish of the GOA (90 FR 12468, March 18, 2025).

In accordance with § 679.20(d)(2), the Regional Administrator has determined that the 2025 TAC of Pacific Ocean perch has been or will be reached. Therefore, NMFS is requiring that Pacific ocean perch for vessels in the Western Regulatory Area of the GOA be treated as prohibited species in accordance with § 679.21(a)(2) for the remainder of the year, except for Pacific ocean perch in the Western Regulatory Area of the GOA caught by catcher vessels using hook-and-line, pot, or jig gear as described in § 679.20(j), or catcher vessels using trawl gear participating in the electronic monitoring program as described in § 679.21(a)(2).

Classification

NMFS issues this action pursuant to section 305(d) of the Magnuson-Stevens Act. This action is required by 50 CFR part 679, which was issued pursuant to section 304(b) of the Magnuson-Stevens Act, and is exempt from review under Executive Order 12866.

Pursuant to 5 U.S.C. 553(b)(B), there is good cause to waive prior notice and an opportunity for public comment on this action, as notice and comment would be impracticable and contrary to the public interest, as it would prevent NMFS from responding to the most recent fisheries data in a timely fashion and would delay prohibiting the retention of Pacific Ocean perch. NMFS was unable to publish a notice providing time for public comment because the most recent, relevant data on Pacific Ocean perch catch only became available as of September 22, 2025.

There is good cause under 5 U.S.C. 553(d)(3) to waive the 30-day delay in the effective date of this action. This finding is based upon the reasons provided above for waiver of prior notice and opportunity for public comment.

Authority: 16 U.S.C. 1801 et seq.

Dated: September 25, 2025.
Kelly Denit,
Director, Office of Sustainable Fisheries, National Marine Fisheries Service.

[FR Doc. 2025-18898 Filed 9-25-25; 4:15 pm]

BILLING CODE 3510-22-P